DEPARTMENT OF ENERGY

Federal Energy Regulatory Commission

[Docket No. PR09-31-000]

The Dow Chemical Company, Dow Pipeline Company, and Dow Hydrocarbons and Resources LLC; Notice of Petition for Declaratory Order

September 9, 2009.

Take notice that on August 19, 2009, The Dow Chemical Company, Dow Pipeline Company and Dow Hydrocarbons and Resources LLC (collectively referred to as Dow) filed a Petition for Declaratory Order pursuant to Rule 207 of the Commission's regulations, 18 CFR 385.207 (2009). Dow requests that the Commission issue a declaratory order authorizing Dow Hydrocarbons and Resources LLC to link an assignment of firm intrastate pipeline capacity on the Dow Pipeline Company system, to be used for firm transportation service, pursuant to Natural Gas Policy Act section 311(a)(2). Dow proposes that such an assignment be made with some or all of the Dow Chemical Company's capacity rights at the Freeport LNG Development L.P. terminal.

Any person desiring to participate in this filing must file a motion to intervene or a protest in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time Wednesday, September 16, 2009.

Kimberly D. Bose,
Secretary.

[FR Doc. E9-22229 Filed 9-15-09; 8:45 am]

BILLING CODE 6717-01-P